FEDERAL COMMUNICATIONS COMMISSION

47 CFR Part 73

[DA 01-2735; MM Docket No. 00-31; RM-9815; RM-10014; RM-10095]

Radio Broadcasting Services; Nogales,Vail and Patagonia, AZ

AGENCY: Federal Communications Commission.

ACTION: Final rule.

SUMMARY: In response to a proposal filed on behalf of Desert West Air Ranchers Corporation, licensee of Station KZNO(FM), Nogales, Arizona, the Commission substitutes Channel 253A for Channel 252A at Nogales, reallots Channel 253A to Vail, Arizona, as that community's first local aural transmission service, and modifies the license for Station KZNO(FM), as requested. See 65 FR 11540, March 3, 2000. Additionally, in response to a counterproposal filed on behalf of Desert West Air Ranchers Corporation, this document allots Channel 251A to Patagonia, Arizona, as that community's first local aural transmission service. And, in response to a counterproposal filed on behalf of Big Broadcasting of Arizona, LLC, this document allots Channel 283A to Vail, Arizona, as that community's second local FM service. Coordinates used for Channel 253A at Vail, Arizona to accommodate the reallotment are 31-55-39 NL and 110-37-57 WL; coordinates for Channel 283A at Vail for general application are 32-02-48 NL and 110-42-42 WL; coordinates used for Channel 251A at Patagonia are 31-33-05 NL and 110-44-45 WL. As Vail and Patagonia are located within 320 kilometers (199 miles) of the US-Mexico border, concurrence of the Mexican government has been requested for Channels 253A, and 283A at Vail, and for Channel 251A at Patagonia, but has not been received. Therefore, if construction permits are granted for the specified channels at Vail and Patagonia prior to receipt of final notification by the Mexican government, the authorizations will include the following condition: “Operation with the facilities specified herein is subject to modification, suspension or termination without right to a hearing if found by the Commission to be necessary in order to conform to the 1992 USA-Mexico FM Broadcast Agreement, or if specifically objected to by Mexico.

DATES: Effective January 7, 2002. Filing windows for Channel 283A at Vail, Arizona, and for Channel 251A at Patagonia, Arizona, will not be opened at this time. Instead, the issue of opening those allotments for auction will be addressed by the Commission in a subsequent Order.

FOR FURTHER INFORMATION CONTACT: Nancy Joyner, Mass Media Bureau, (202) 418-2180.

SUPPLEMENTARY INFORMATION: This is a synopsis of the Commission's Report and Order, MM Docket No. 00-31, adopted November 14, 2001, and released November 23, 2001. The full text of this Commission decision is available for inspection and copying during normal business hours in the FCC's Reference Information Center (Room CY-A257), 445 12th Street, SW., Washington, DC 20554. The complete text of this decision may also be purchased from the Commission's copy contractor, Qualtex International, Portals II, 445 12th Street, SW., Room CY-B402, Washington, DC 20554, telephone (202) 863-2893.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, and 336.

§ 73.202 [Amended].

2. Section 73.202(b), the Table of FM Allotments under Arizona, is amended by removing Channel 252A at Nogales.

3. Section 73.202(b), the Table of FM Allotments under Arizona, is amended by adding Patagonia, Channel 251A; and Vail, Channel 253A and Channel 283A.

Federal Communications Commission.
John A. Karousos,
Chief, Allocations Branch, Policy and Rules Division, Mass Media Bureau.

[FR Doc. 01-30391 Filed 12-7-01; 8:45 am]

BILLING CODE 6712-01-P